DEPARTMENT OF COMMERCE

International Trade Administration

[C-533-821, C-560-813]

Certain Hot-Rolled Carbon Steel Flat Products From India and Indonesia: Final Results of the Expedited Fourth Sunset Reviews of the Countervailing Duty Orders

AGENCY: Enforcement and Compliance, International Trade Administration, Department of Commerce.

SUMMARY: The U.S. Department of Commerce (Commerce) finds that revocation of the countervailing duty (CVD) orders on certain hot-rolled carbon steel flat products (hot-rolled steel) from India and Indonesia would be likely to lead to continuation or recurrence of countervailable subsidies at the levels indicated in the “Final Results of the Sunset Reviews” section of this notice.

DATES: Applicable November 12, 2024.

FOR FURTHER INFORMATION CONTACT: Peter Zukowski, AD/CVD Operations, Office III, Enforcement and Compliance, International Trade Administration, U.S. Department of Commerce, 1401 Constitution Avenue NW, Washington, DC 20230; telephone: (202) 482-0189.

SUPPLEMENTARY INFORMATION:

Background

On December 3, 2001, Commerce published the Orders on hot-rolled steel from India and Indonesia.¹ On July 1, 2024, Commerce published the notice of initiation of the fourth five-year (sunset) reviews of the Orders, pursuant to section 751(c) of the Tariff Act of 1930, as amended (the Act).² From July 15 through July 16, 2024, Commerce received notices of intent to participate from Cleveland-Cliffs Inc.,³ Nucor Corporation,⁴ United States Steel Corporation,⁵ Steel Dynamics, Inc., and SSAB Enterprises, LLC ⁶ (collectively, the domestic interested parties), within the deadline specified in 19 CFR 351.218(d)(1)(i). Each of the domestic interested parties claimed interested party status under section 771(9)(C) of the Act and 19 CFR 351.102(b)(29)(v) as producers of the domestic like product.

¹ See Notice of Amended Final Determination and Notice of Countervailing Duty Orders: Certain Hot-Rolled Carbon Steel Flat Products from India and Indonesia, 66 FR 60198 (December 3, 2001) (Orders).

² See Initiation of Five-Year (Sunset) Reviews, 89 FR 54435 (July 1, 2024).

³ See Cleveland-Cliffs Inc.'s Letter, “Notice of Intent to Participate in Sunset Reviews,” dated July 15, 2024.

⁴ See Nucor Corporation's Letters, “Hot-Rolled Carbon Steel Flat Products from India: Notice of Intent to Participate in Sunset Review,” dated July 15, 2024; and “Hot-Rolled Carbon Steel Flat Products from Indonesia: Notice of Intent to Participate in Sunset Review,” dated July 15, 2024.

⁵ See United States Steel Corporation's Letter, “Notice of Intent to Participate,” dated July 16, 2024.

⁶ See Steel Dynamics, Inc. and SSAB Enterprises, LLC's Letters, “Certain Hot-Rolled Carbon Steel Flat Products from India: Notice of Intent to Participate,” dated July 16, 2024; and “Certain Hot-Rolled Carbon Steel Flat Products from Indonesia: Notice of Intent to Participate,” dated July 16, 2024.

On July 31, 2024, Commerce received adequate substantive responses from the domestic interested parties within the 30-day deadline specified in 19 CFR 351.218(d)(3)(i).⁷ Commerce did not receive a substantive response from any other interested party to this proceeding. On August 21, 2024, Commerce notified the U.S. International Trade Commission that it did not receive an adequate substantive response from respondent interested parties.⁸ As a result, Commerce conducted expedited (120-day) sunset reviews of the Orders, pursuant to section 751(c)(3)(B) of the Act and 19 CFR 351.218(e)(1)(ii)(B)(2) and (C)(2).

⁷ See Domestic Interested Parties' Letter, “Domestic Industry Substantive Response,” dated July 31, 2024.

⁸ 8 See Commerce's Letter, “Sunset Reviews for July 2024,” dated August 21, 2024.

On July 22, 2024, Commerce tolled certain deadlines in this administrative proceeding by seven days.⁹ The deadline for these final results is now November 5, 2024.

⁹ See Memorandum, “Tolling of Deadlines for Antidumping and Countervailing Duty Proceedings,” dated July 22, 2024.

Scope of the Orders

The merchandise covered by the Orders is certain hot-rolled carbon steel flat products from India and Indonesia. For a complete description of the scope of the Orders, see the Issues and Decision Memorandum.¹⁰

¹⁰ See Memorandum, “Issues and Decision Memorandum for the Final Results of the Expedited Fourth Sunset Reviews of the Countervailing Duty Orders on Certain Hot-Rolled Carbon Steel Flat Products from India and Indonesia,” dated concurrently with, and adopted by, this notice.

Analysis of Comments Received

A complete discussion of all issues raised in these sunset reviews, including the likelihood of continuation or recurrence of subsidization in the event of revocation of the Orders and the countervailable subsidy rates likely to prevail if the Orders were to be revoked, is provided in the Issues and Decision Memorandum. A list of the topics discussed in the Issues and Decision Memorandum is attached as an appendix to this notice. The Issues and Decision Memorandum is a public document and is on file electronically via Enforcement and Compliance's Antidumping and Countervailing Duty Centralized Electronic Service System (ACCESS), which is available to registered users at https://access.trade.gov. In addition, complete versions of the Issues and Decision Memorandum can be accessed directly at https://access.trade.gov/public/FRNoticesListLayout.aspx.

Final Results of Sunset Reviews

Pursuant to sections 751(c) and 752(b) of the Act, Commerce determines that revocation of the CVD orders on hot-rolled steel from India would be likely to lead to continuation or recurrence of a countervailable subsidies at the following net countervailable subsidy rates:

Producers/exporters | Net countervailable subsidy rate (percent ad valorem)
Essar Steel Limited | 336.62
Ispat Industries Limited | 360.23
Steel Authority of India Limited | 346.61
Tata Iron and Steel Company Limited | 337.51
All Others | 344.44

Pursuant to sections 751(c) and 752(b) of the Act, Commerce determines that revocation of the CVD order on hot-rolled steel from Indonesia would be likely to lead to continuation or recurrence of a countervailable subsidies at the following net countervailable subsidy rates:

Producers/exporters | Net countervailable subsidy rate (percent ad valorem)
P.T. Krakatau Steel | 10.21
All Others | 10.21

Administrative Protective Order (APO)

This notice serves as the only reminder to parties subject to an APO of their responsibility concerning the disposition of proprietary information disclosed under APO in accordance with 19 CFR 351.305, which continues to govern business proprietary information in this segment of the proceeding. Timely written notification of the return or destruction of APO materials or conversion to judicial protective order is hereby requested. Failure to comply with the regulations and the terms of an APO is a sanctionable violation.

Notification to Interested Parties

Commerce is issuing and publishing these final results and this notice in accordance with sections 751(c), 752(b), and 777(i)(1) of the Act and 19 CFR 351.218.

Dated: November 5, 2024.
Abdelali Elouaradia,
Deputy Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of a Countervailable Subsidy

2. Net Countervailable Subsidy Rates Likely to Prevail

3. Nature of the Subsidies

VII. Final Results of Sunset Reviews

VIII. Recommendation

[FR Doc. 2024-26120 Filed 11-8-24; 8:45 am]

BILLING CODE 3510-DS-P